COMMISSION ON CIVIL RIGHTS

Sunshine Act Notice

AGENCY: United States Commission on Civil Rights.

ACTION: Notice of briefing and meeting.

Date and Time: Friday, June 6, 2008; 9:30 a.m.

Place: U.S. Commission on Civil Rights, 624 Ninth Street, NW., Rm. 540, Washington, DC 20425.

Briefing Agenda: Topic: Review of the Department of Justice's Plans to Monitor Voting Rights Enforcement for the 2008 U.S. Presidential Election.

I. Introductory Remarks by Chairman.

II. Speakers' Presentations.

III. Questions by Commissioners and Staff Director.

IV. Adjourn Briefing.

Meeting Agenda:

I. Approval of Agenda.

II. Approval of Minutes.

• May 9, 2008 Meeting.

III. Announcements.

IV. Staff Director's Report.

V. Management and Operations.

• FY 2009 Budget Submission.

VI. Program Planning.

• 2010 Program Planning.

VII. State Advisory Committee Issues.

• Florida SAC.

• Kentucky SAC.

• Wyoming SAC.

VIII. Future Agenda Items.

IX. Adjourn.

FOR FURTHER INFORMATION CONTACT: Lenore Ostrowsky, Acting Chief, Public Affairs Unit, (202) 376-8582.

Dated: May 27, 2008.
David Blackwood,
General Counsel.

[FR Doc. 08-1309 Filed 5-27-08; 1:44 pm]

BILLING CODE 6335-01-P